DEPARTMENT OF ENERGY

Federal Energy Regulatory Commission

Combined Notice of Filings #1

Take notice that the Commission received the following exempt wholesale generator filings:

Docket Numbers: EG23-21-000.

Applicants: Sandy Ridge Wind 2, LLC.

Description: Sandy Ridge Wind 2, LLC submits Notice of Self-Certification of Exempt Wholesale Generator Status.

Filed Date: 11/4/22.

Accession Number: 20221104-5112.

Comment Date: 5 p.m. ET 11/25/22.

Docket Numbers: EG23-22-000.

Applicants: Sandy Ridge Transco Interconnection, LLC.

Description: Sandy Ridge Transco Interconnection, LLC submits Notice of Self-Certification of Exempt Wholesale Generator Status.

Filed Date: 11/4/22.

Accession Number: 20221104-5113.

Comment Date: 5 p.m. ET 11/25/22.

Take notice that the Commission received the following electric rate filings:

Docket Numbers: ER22-1728-003.

Applicants: Basin Electric Power Cooperative.

Description: Compliance filing: Basin Electric Submission of Compliance Filing, Docket No. ER22-1728-002 to be effective 4/30/2022.

Filed Date: 11/4/22.

Accession Number: 20221104-5022.

Comment Date: 5 p.m. ET 11/25/22.

Docket Numbers: ER23-1-001.

Applicants: ITC Midwest LLC, Interstate Power and Light Company.

Description: Tariff Amendment: Interstate Power and Light Company submits tariff filing per 35.17(b): Amendment to O&T Agreement Exhibits and Appendices Update (2022) to be effective 12/2/2022.

Filed Date: 11/4/22.

Accession Number: 20221104-5072.

Comment Date: 5 p.m. ET 11/25/22.

Docket Numbers: ER23-225-001.

Applicants: Pacific Gas and Electric Company.

Description: Tariff Amendment: Errata to Q3 2022 Qtrly Filing of City and County of San Francisco's WDT SA 275 to be effective 9/30/2022.

Filed Date: 11/4/22.

Accession Number: 20221104-5085.

Comment Date: 5 p.m. ET 11/25/22.

Docket Numbers: ER23-370-000.

Applicants: New England Power Company.

Description: New England Power Company submits Request for Limited Waiver of certain provisions in the formula rate template in Attachment F of the ISO New England Inc. OATT.

Filed Date: 11/2/22.

Accession Number: 20221102-5203.

Comment Date: 5 p.m. ET 11/23/22.

Docket Numbers: ER23-371-000.

Applicants: Alabama Power Company, Georgia Power Company, Mississippi Power Company.

Description: § 205(d) Rate Filing: Alabama Power Company submits tariff filing per 35.13(a)(2)(iii: Fresh Air Energy II (Castleberry PV1) LGIA Filing to be effective 10/26/2022.

Filed Date: 11/4/22.

Accession Number: 20221104-5070.

Comment Date: 5 p.m. ET 11/25/22.

Docket Numbers: ER23-372-000.

Applicants: Alabama Power Company, Georgia Power Company, Mississippi Power Company.

Description: Tariff Amendment: Alabama Power Company submits tariff filing per 35.15: Indian Springs Solar LGIA Termination Filing to be effective 11/4/2022.

Filed Date: 11/4/22.

Accession Number: 20221104-5071.

Comment Date: 5 p.m. ET 11/25/22.

Docket Numbers: ER23-373-000.

Applicants: Alabama Power Company, Georgia Power Company, Mississippi Power Company.

Description: Tariff Amendment: Alabama Power Company submits tariff filing per 35.15: Boggy Branch Solar LGIA Termination Filing to be effective 11/4/2022.

Filed Date: 11/4/22.

Accession Number: 20221104-5074.

Comment Date: 5 p.m. ET 11/25/22.

Docket Numbers: ER23-374-000.

Applicants: Southwestern Public Service Company, Southwest Power Pool, Inc.

Description: § 205(d) Rate Filing: Southwestern Public Service Company submits tariff filing per 35.13(a)(2)(iii: SPS Formula Rate Revisions to Incorporate Changes Accepted in ER22-2746 to be effective 5/19/2021.

Filed Date: 11/4/22.

Accession Number: 20221104-5079.

Comment Date: 5 p.m. ET 11/25/22.

Docket Numbers: ER23-375-000.

Applicants: Colice Hall Solar, LLC.

Description: Baseline eTariff Filing: Application for Market Based Rate Authority to be effective 12/15/2022.

Filed Date: 11/4/22.

Accession Number: 20221104-5119.

Comment Date: 5 p.m. ET 11/25/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 4, 2022.
Kimberly D. Bose,
Secretary.

[FR Doc. 2022-24535 Filed 11-9-22; 8:45 am]

BILLING CODE 6717-01-P